DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (FACA) (5 U.S.C. Appendix (1988)), that the Preservation Technology and Training Board (Board) of the National Center for Preservation Technology and Training, National Park Service will meet on Tuesday, March 29, 2005, in Natchitoches, Louisiana.

The Board was established by Congress to provide leadership, policy advice, and professional oversight to the National Park Service's National Center for Preservation Technology and Training (National Center) in compliance with Section 404 of the National Historic Preservation Act of 1966, as amended, (16 U.S.C. 470x-2(e)).

The Board will meet at the Headquarters of the National Center in Lee H. Nelson Hall on the campus of Northwestern State University, 645 College Avenue, Natchitoches, Louisiana 71457—telephone (318) 356-7444. The meeting will begin at 9 a.m. and end no later than 5 p.m.

The Board's meeting agenda will include: electing a new Board Chair and Vice Chair; review and comment on National Center operations priorities for FY 2005 and 2006; status of on-going National Center initiatives; future of the Louisiana Heritage Education Initiative; development and launch of the Lee H. Nelson Prize in Historic Preservation Technology; review, comment, and final action on the National Center Business Plan; Board workgroup reports; and progress in developing a National Center Friends Group among others.

The Board meeting is open to the public. Facilities and space for accommodating members of the public are limited, however, and persons will be accommodated on a first come, first served basis. Any member of the public may file a written statement concerning any of the matters to be discussed by the Board.

Persons wishing more information concerning this meeting, or who wish to submit written statements, may contact: Mr. de Teel Patterson Tiller, Deputy Associate Director, Cultural Resources, National Park Service, U.S. Department of the Interior, 1849 C Street, NW.—Room 3128 MIB, Washington, DC 20240—telephone (202) 208-7625. Increased security in the Washington, DC area may cause delays in the delivery of the U.S. Mail or commercial delivery to government office buildings. In addition to U.S. Mail or commercial delivery, written comments may be sent by fax to Mr. Tiller at (202) 273-3237.

Minutes of the meeting will be available for public inspection no later than 90 days after the meeting at the office of the Deputy Associate Director, Cultural Resources, National Park Service, U.S. Department of the Interior, 1849 C Street, NW.—Room 3128 MIB, Washington, DC 20240—telephone (202) 208-7625.

Dated: January 28, 2005.
de Teel Patterson Tiller,
Deputy Associate Director, Cultural Resources, National Park Service.

[FR Doc. 05-3346 Filed 2-18-05; 8:45 am]

BILLING CODE 4312-52-P